DEPARTMENT OF TRANSPORTATION

Federal Highway Administration

[Docket No. FHWA-2013-0012]

Notice of Funding Availability for the Tribal Transportation Program Safety Funds

AGENCY: Federal Highway Administration (FHWA), Department of Transportation (DOT).

ACTION: Notice of funding availability.

SUMMARY: This notice announces the availability of funding and requests grant applications for FHWA's Tribal Transportation Program Safety Funds (TTPSF). In addition, this notice addresses comments received on the interim notice of funding availability (Docket No. FHWA-2013-0012), announces selection criteria, application requirements, and technical assistance during the grant solicitation period for the TTPSF.

The TTPSF is authorized within the Tribal Transportation Program (TTP) under the Moving Ahead for Progress in the 21st Century Act (MAP-21). The FHWA will distribute these funds as described in this final notice on a competitive basis in a manner consistent with the selection criteria.

On April 30, 2013, FHWA published an interim notice that announced funding availability. Because this is a new program, the interim notice also requested comments on the proposed selection and evaluation criteria. The FHWA considered the comments that were submitted in accordance with the interim notice. The FHWA's response to the comments and revisions made in this final notice are described below in the SUPPLEMENTARY INFORMATION section. In the event that this solicitation does not result in the award and obligation of all available funds, FHWA may decide to publish an additional solicitation.

DATES: Applications must be submitted through Grants.gov no later than 5 p.m. e.t. on September 19, 2013 (the “Application Deadline”). Applicants are encouraged to submit applications in advance of the Application Deadline, however, applications will not be evaluated, and awards will not be made until after the Application Deadline.

The FHWA plans to conduct outreach regarding the TTPSF in the form of a Webinar on August 8, 2013, at 2:00 e.t., (participants can pre-register online at: http://www.nhi.fhwa.dot.gov/resources/webconference/web_conf_learner_reg.aspx?webconfid=26241). The Webinar will be recorded and posted on FHWA's Web site at: http://www.flh.fhwa.dot.gov/programs/ttp/.

ADDRESSES: Applications must be submitted electronically through Grants.gov. The FHWA will not accept applications that are sent directly to FHWA outside of the Grants.gov process. Instructions for submitting through Grants.gov are included in Section V(E) of this final notice.

FOR FURTHER INFORMATION CONTACT: For further information concerning this notice please contact Russell Garcia, TTPSF Program Manager, via email at russell.garcia@dot.gov; by telephone at 202-366-9815; or by mail at Federal Highway Administration, 1200 New Jersey Avenue SE., Washington, DC 20590. Office hours are from 8:30 a.m. to 5:00 p.m. e.t., Monday through Friday, except Federal holidays. A TDD is available for individuals who are deaf or hard of hearing at 202-366-3993. For legal questions, please contact Ms. Vivian Philbin, Office of the Chief Counsel, by telephone at (720) 963-3445; by email at vivian.philbin@dot.gov; or by mail at Federal Highway Administration, Central Federal Lands Highway Division, 12300 West Dakota Avenue, Lakewood, CO 80228. Office hours are from 7:30 a.m. to 4:00 p.m. m.t., Monday through Friday, except Federal holidays.

SUPPLEMENTARY INFORMATION: On April 30, 2013, FHWA published an interim notice announcing the availability of funding for the TTPSF. Because this is a new program, the interim notice also requested comments on the proposed selection and evaluation criteria in awarding TTPSF grants. The FHWA considered the six comments that were submitted in accordance with the interim notice and revised some elements of the selection criteria as described below.

Response to Comments

This final notice addresses comments and revises the interim notice published on April 30, 2013, (Docket No. FHWA-2013-0012) as follows:

1. This final notice clarifies the types of projects eligible for funding under the four TTPSF funding categories. This clarification is in response to: (1) Comments that asked FHWA to include examples of eligible projects and activities for each TTPSF funding category, and (2) specific questions regarding the eligibility of multimodal projects, bus inspection facilities, and projects and activities that would be eligible under the Safe Routes to School Program.

2. The FHWA received comments concerning the use of Grants.gov as part of the application process. Commenters expressed concern that Grants.gov is cumbersome, that Indian tribes may not be familiar with this process, and that Indian tribes may not have reliable Internet access. Grants.gov is the mandated system for accessing Federal funds. The FHWA will provide technical assistance, as needed, to TTPSF applicants during the solicitation period. The FHWA will also address the use of Grants.gov during the TTPSF Webinars.

3. The FHWA received a comment expressing concern over the role of the Bureau of Indian Affairs (BIA) in providing technical assistance, and stewardship and oversight of TTPSF grants. The FHWA will help to coordinate any necessary BIA assistance including working with BIA on the TTPSF funding process and program requirements.

4. This final notice revises the funding limits for safety planning activities. However, due to the limited amount of funding availability, and the desire to fund as many tribal safety plans as possible, FHWA reminds applicants that the evaluation of safety planning activities as well as the evaluation of engineering improvements, enforcement and emergency services improvements, and education programs, all include leveraging TTPSF funds with other (private or public) funding sources.

5. The FHWA received a comment expressing a desire for flexibility in funding goals for each eligibility category. The FHWA believes there is sufficient funding flexibility in each of the funding categories and, therefore, no change is necessary.

6. The FHWA received a comment to consider substituting the phrase “activities or projects” for “projects” in all cases. The FHWA believes that the phrase “projects” is broadly defined in Sections I (Background) and IIB (Eligible Uses of Funds) which include strategies, activities, and projects on a public road and therefore, no change is necessary.

This is the final notice; FHWA is no longer considering comments on the proposed selection and evaluation criteria for TTPSF. This final notice is the operative notice of funding availability, selection and evaluation criteria, application requirements, and technical assistance during the grant solicitation period for the TTPSF.

Table of Contents

I. Background

II. Eligibility

A. Entities Eligible To Apply for Funding

B. Eligible Uses of Funds

III. Selection Criteria and Policy Considerations

A. Safety Planning Activities (Funding Goal 40% of TTPSF)

B. Engineering Improvements (Funding Goal 30% of TTPSF)

C. Enforcement and Emergency Services Improvements (Funding Goal 20% of TTPSF)

D. Education Programs (Funding Goal 10% of TTPSF)

IV. Evaluation Process

V. Application Process

A. Contents of Applications

B. Standard Form 424, Applications for Federal Assistance

C. Narrative (Attachment to SF-424)

D. Contact Information

E. Additional Information on Applying Through Grants.gov

F. Experiencing Unforeseen Grants.gov Technical Issues

VI. Program Funding and Award

VII. Consultation

I. Background

On July 6, 2012, President Obama signed into law MAP-21 (Pub. L. 112-141), which authorizes TTPSF as a set aside of not more than 2 percent of the funds made available under the TTP for each of Federal Fiscal Years (FY) 2013 and 2014. Section 202(e) of title 23, United States Code (U.S.C.), provides that the funds are to be allocated based on an identification and analysis of highway safety issues and opportunities on tribal lands, as determined by the Secretary, on application of the Indian tribal governments for eligible projects described in 23 U.S.C. 148(a)(4). Eligible projects described in section 148(a)(4) include strategies, activities, and projects on a public road that are consistent with a State strategic highway safety plan and correct or improve a hazardous road location or feature, or address a highway safety problem.

Section 202(e) further specifies that in applying for TTPSF, an Indian tribal government, in cooperation with the Secretary of the Interior and, as appropriate, with a State, local government, or metropolitan planning organization, shall select projects from the transportation improvement program (TIP), subject to the approval of the Secretary of Transportation and the Secretary of the Interior.

II. Eligibility

A. Entities Eligible To Apply for Funding

Section 202(e) specifies that TTPSF are to be made available to Indian tribal governments. Accordingly, consistent with other FHWA funding provided to tribes, any federally recognized tribe identified on the list of “Indian Entities Recognized and Eligible to Receive Services from the Bureau of Indian Affairs” (published at 77 FR 47868) is eligible to apply for TTPSF.

B. Eligible Uses of Funds

Under section 202(e), projects for which Indian tribal governments may apply are highway safety improvement projects eligible under the Highway Safety Improvement Program as described in 23 U.S.C. 148(a)(4). Projects eligible for funding may include strategies, activities, or projects on a public road that are consistent with a State Strategic Highway Safety Plan (SHSP) and correct or improve a hazardous road location or feature, or address a highway safety problem.¹ This includes infrastructure and non-infrastructure strategies, activities or projects including education activities. For purposes of the TTPSF, for a project to be consistent with a State's SHSP it must be data-driven or address a priority in an applicable tribal transportation safety plan that considers the priorities and strategies addressed in the State SHSP. To be considered eligible for TTPSF, roadway or transportation facilities improvement projects also must be: (1) Included in the tribe's official National Tribal Transportation Facility Inventory, as identified in 23 U.S.C. 202(b)(1), and (2) listed in the TIP.

¹ Examples of eligible HSIP projects include but are not limited to the projects set for in 23 U.S.C. 148(a)(4)(B).

III. Selection Criteria and Policy Considerations

The FHWA will award TTPSF funds based on the selection criteria and policy considerations as outlined below.

The FHWA shall give priority consideration to eligible projects under 23 U.S.C. 148(a)(4) that fall within one of the following four categories: (1) Safety planning activities; (2) engineering improvements; (3) enforcement and emergency services improvements; and (4) education programs. The priority categories were determined in consultation with the Tribal Transportation Program Coordinating Committee (TTPCC) ² and are intended to strengthen safety planning activities in tribal transportation while also directing resources to needed safety improvements. The categories are also consistent with the FHWA SHSP for Indian Lands which has as its mission to, “Implement effective transportation safety programs to save lives while respecting Native American culture and tradition by fostering communication, coordination, collaboration, and cooperation.” ³ These categories are also consistent with the Tribal Safety Management Implementation Plan (TSMIP). The TSMIP recognizes that, “tribal safety plans are an essential component and an effective planning tool for prioritizing and implementing safety solutions.” ⁴ The TSMIP also states that “reducing highway fatalities and serious injuries with any sustained success requires that all four elements (4Es) of highway safety be addressed—engineering, enforcement, education, and emergency services. A Tribal Safety Program, whether large or small, should work to address the 4Es, and its foundation, data.”

² The TTPCC is a committee established in 25 CFR part 170 and is charged with providing input and recommendations to the Bureau of Indian Affairs (BIA) and FHWA in developing TTP policies and procedures. Its members are appointed by the Secretary of the Interior and represent all 12 BIA Regions. Tribal consultation is described further in Section VIII of this notice.

³ The Strategic Safety Plan of Indian Lands is available at: http://flh.fhwa.dot.gov/programs/ttp/safety/documents/strategic-hsp.pdf

⁴ The SMS Implementation Plan is available at: http://flh.fhwa.dot.gov/programs/ttp/safety/documents/sms-implementation.pdf.

The FHWA will allocate the TTPSF among the four categories as follows: (1) Safety planning activities (40 percent); (2) engineering improvements (30 percent); (3) enforcement and emergency services improvements (20 percent); and (4) education programs (10 percent). These funding goals were established with the TTPCC and will be reviewed annually and may be adjusted to reflect current tribal transportation safety priorities and needs. These proposed allocation amounts provide substantial funding for tribal safety plans to reflect the strong need that has been identified in this area and to ensure that all tribes have an opportunity to assess their safety needs and prioritize safety projects. The remaining proposed allocation amounts were established based on the significant need for transportation related capital improvement projects, while still allowing for applications that would cover all 4Es of safety.

A. Safety Planning Activities (Funding Goal 40 Percent of TTPSF)

The development of a tribal safety plan that is data driven, identifies transportation safety issues, prioritizes activities, is coordinated with the State SHSP and promotes a comprehensive approach to addressing safety needs by including all 4Es is a critical step in improving highway safety. Additional information on developing a tribal safety plan can be found at: http://flh.fhwa.dot.gov/programs/ttp/safety/.

Accordingly, FHWA will award TTPSF for developing and updating tribal safety plans, and other safety planning activities. Eligible uses of funds are described in Section II of this notice and example projects are listed in 23 U.S.C. 148(a)(4), which can be found at: http://www.fhwa.dot.gov/map21/docs/title23usc.pdf.

The FHWA will use the following criteria in the evaluation of TTPSF funding requests for tribal safety plans: (1) Development of a tribal safety plan where none currently exists; and (2) age and status of existing tribal safety plans. The FHWA will use the following criteria in the evaluation of TTPSF funding requests for safety planning activities: (1) Inclusion of the activity in a completed State SHSP or tribal transportation safety plan that is no more than 5 years old; (2) submission of supporting data that clearly demonstrates the need for the activity; (3) leveraging of private or other public funding;

(4) extent to which the project compliments a comprehensive approach to safety and addresses elements of the 4Es.

Examples of eligible safety planning activities include, but are not limited to:

• Development of tribal transportation safety plans;

• Collection, analysis, and improvement of safety data; and

• Road safety assessments.

B. Engineering Improvements (Funding Goal 30 Percent of TTPSF)

Eligible uses of funds are described in Section II of this notice and example projects are listed in 23 U.S.C. 148(a)(4) which can be found at: http://www.fhwa.dot.gov/map21/docs/title23usc.pdf.

The FHWA will use the following criteria in the evaluation of funding requests for engineering improvements: (1) Inclusion of the activity in a completed State SHSP or tribal transportation safety plan that is no more than 5 years old; (2) inclusion of the activity in a completed road safety audit, engineering study, impact assessment or other engineering document; (3) submission of supporting data that clearly demonstrates the need for the project; (4) ownership of the facility; (5) leveraging of private or other public funding; (6) years since the tribe has last received funding for an TTPSF engineering improvement project; (7) extent to which the project compliments a comprehensive approach to safety and addresses elements of the 4Es.

Examples of eligible engineering improvement projects include, but are not limited to:

• Intersection safety improvements;

• Pavement and shoulder widening (including addition of a passing lane to remedy an unsafe condition);

• Installation of rumble strips or another warning device, if the rumble strips or other warning devices do not adversely affect the safety or mobility of bicyclists and pedestrians, including persons with disabilities;

• Installation of a skid-resistant surface at an intersection or other location with a high frequency of crashes;

• Improvements for pedestrian or bicyclist safety or safety of persons with disabilities;

• Construction and improvement of railway-highway grade crossing safety feature;

• Installation of protective devices;

• Construction of a traffic calming feature;

• Elimination of a roadside hazard;

• Installation, replacement, and other improvement of highway signage and pavement markings, or a project to maintain minimum levels of retroreflectivity that addresses a highway safety;

• Installation of a traffic control or other warning device at a location with high crash potential;

• Installation of guardrails, barriers (including barriers between construction work zones and traffic lanes for the safety of road users and workers), and crash attenuators;

• The addition or retrofitting of structures or other measures to eliminate or reduce crashes involving vehicles and wildlife;

• Installation of yellow-green signs and signals at pedestrian and bicycle crossings and in school zones;

• Construction and operational improvements on high risk rural roads;

• Geometric improvements to a road for safety purposes that improve safety;

• Roadway safety infrastructure improvements consistent with the recommendations included in the publication of the Federal Highway Administration entitled `Highway Design Handbook for Older Drivers and Pedestrians';

• Truck parking facilities eligible for funding under section 1401 of the MAP-21;

• Systemic safety improvements; and

• Transportation-related safety projects for modes such as trails, docks, boardwalks, ice roads, and others that are eligible for TTP funds.

C. Enforcement and Emergency Services Improvements (Funding Goal 20 Percent of TTPSF)

Eligible uses of funds are described in Section II of this notice and example projects are listed in 23 U.S.C. 148(a)(4) which can be found at: http://www.fhwa.dot.gov/map21/docs/title23usc.pdf.

The FHWA will use the following criteria in the evaluation of funding requests for enforcement and emergency services improvements: (1) Inclusion of the activity in a completed State SHSP or tribal transportation safety plan that is no more than 5 years old; (2) submission of supporting data that clearly demonstrates the need for the project; (3) leveraging of private or other public funding; (4) extent to which the project compliments a comprehensive approach to safety and addresses elements of the 4Es.

Examples of eligible enforcement and emergency services improvement activities include, but are not limited to:

• The conduct of a model traffic enforcement activity at a railway-highway crossing;

• Installation of a priority control system for emergency vehicles at signalized intersections; and

• Planning integrated interoperable emergency communications equipment, operational activities, or traffic enforcement activities (including police assistance) relating to work zone safety.

D. Education Programs (Funding Goal 10 Percent of TTPSF)

Eligible uses of funds are described in Section II of this notice and example projects are listed in 23 U.S.C. 148(a)(4) which can be found at: http://www.fhwa.dot.gov/map21/docs/title23usc.pdf.

The FHWA will use the following criteria in the evaluation of funding requests for education projects: (1) Inclusion of the activity in a completed State SHSP or tribal transportation safety plan that is no more than 5 years old; (2) submission of supporting data that clearly demonstrates the need for the project; (3) leveraging of private or other public funding; (4) extent to which the project compliments a comprehensive approach to safety and addresses elements of the 4Es.

Examples of eligible education activities include, but are not limited to:

• Safety Management System Implementation Plan activities;

• Public service announcements; and

• Programs implemented to inform the public or address behaviors that affect transportation safety.

IV. Evaluation Process

The TTPSF grant applications will be evaluated in accordance with the below discussed evaluation process. The FHWA will establish an evaluation team to review each application received by FHWA prior to the Application Deadline. The evaluation team will be led by FHWA and will include members from the BIA. The team will include technical and professional staff with relevant experience and expertise. The evaluation teams will be responsible for evaluating and rating all of the projects and making funding recommendations.

All applications will be evaluated and assigned a rating of “Highly Qualified,” “Qualified,” or “Not Qualified.” The ratings, as defined below, are proposed within each priority funding category as follows:

1. Safety Plans and Safety Planning Activities

a. Highly Qualified Safety Plans: requests (up to a maximum of $12,500) for development of new tribal safety plans or to update incomplete tribal safety plans and requests (up to a maximum of $7,500.00) to update existing tribal safety plans that are more than 3 years old; significant leverage with other funding.

b. Qualified: requests for other safety planning efforts that are in a current State SHSP or tribal safety plan; and are part of a comprehensive approach including other safety efforts.

c. Not Qualified: projects that do not meet the eligibility requirements; any request to update an existing tribal safety plan that is less than 3 years old; projects that are not included in a State SHSP or tribal safety plan or do not have a comprehensive approach to safety with other partners.

If the number of applications rated as “highly qualified” exceed the amount of available funding, FHWA will give priority funding consideration to requests for development of new tribal safety plans.

2. Engineering Improvements

a. Highly Qualified: efforts that are in a current State SHSP or tribal safety plan; data included in the application that directly supports the project; project is in a current road safety audit, engineering study, impact assessment, or other engineering study; projects located on a BIA or Tribal facility; significant leverage with other funding; the tribe has not received funding for a safety construction project in more than 10 years or the project is part of a comprehensive approach to safety which includes three or more other safety efforts.

b. Qualified: efforts that are in a current State SHSP or tribal safety plan, but the plan is more than 5 years old; some data included in the application that supports the project; project is in a road safety audit, engineering study, impact assessment, or other engineering study that is more than 5 years old; project is located on a transportation facility not owned by a tribe or BIA; some leveraging with other funding; the tribe has not received funding for a safety construction project in the last 10 years or the projects is part of a coordinated approach with one to two other safety efforts.

c. Not Qualified: projects that do not meet the eligibility requirements; are not included in a State SHSP or tribal safety plan; no data provided in the application to support the request; are not included in a road safety audit, engineering study, impact assessment, or other engineering study; have received funding for a safety construction project within the last 2 years or do not have a comprehensive approach to safety with other partners.

If the number of applications rated as “highly qualified” exceed the amount of available funding, FHWA will give priority funding consideration to those applicants that have provided sufficient data that supports the project and indicates that the project is included in a road safety audit or other engineering study that clearly identifies the improvements that are needed.

3. Enforcement and Emergency Services

a. Highly Qualified: efforts that are in a current State SHSP or tribal safety plan; data included in the application that directly supports the requested project, significant leverage with other funding or are part of a comprehensive approach to safety, including three or more other safety efforts.

b. Qualified: efforts that are in a current State SHSP or tribal safety plan but the plan is more than 5 years old; some data included in the application that supports the project; some leveraging with other funding or are coordinated with one to two other safety efforts.

c. Not Qualified: projects that do not meet the eligibility requirements; are not included in a State SHSP or tribal safety plan; no data provided in the application that supports the project does not have a comprehensive approach to safety with other partners.

If the number of applications rated as “highly qualified” exceed the amount of available funding, FHWA will give priority funding consideration to those applicants that have provided sufficient data that supports the project and indicates that the project is included in an existing transportation safety plan

4. Education Programs

a. Highly Qualified: efforts that are in a current State SHSP or tribal safety plan; data included in the application that directly supports the requested project; significant leverage with other funding or are part of a comprehensive approach to safety including three or more other safety efforts.

b. Qualified: efforts that are in a current State SHSP or tribal safety plan but the plan is more than 5 years old; some data included in the application that supports the project; some leveraging with other funding or are coordinated with one to two other safety efforts.

c. Not Qualified: projects that do not meet the eligibility requirements; are not included in a State SHSP or tribal safety plan; no data provided in the application that supports the project does not have a comprehensive approach to safety with other partners.

If the number of applications rated as “highly qualified” exceed the amount of available funding, FHWA will give priority funding consideration to those applicants that have provided sufficient data that supports the project and shown the project is included in an existing transportation safety plan.

V. Application Process

A. Contents of Applications

The applicants must include all of the information requested below in their applications. The FHWA may request any applicant to supplement the data in its application, but encourages applicants to submit the most relevant and complete information the applicant could provide. The FHWA also encourages applicants, to the extent practicable, to provide data and evidence of project merits in a form that is publicly available or verifiable.

A complete application must consist of: (1) The Standard Form 424 (SF 424) available from Grants.gov; and (2) the narrative attachment to the SF 424 as described below.

B. Standard Form 424, Application for Federal Assistance

Applicants should see www.grants.gov/assets/SF424Instructions.pdf for instructions for completing the SF 424, which is part of the standard Grants.gov submission.

C. Narrative (Attachment to SF 424)

Applicants must attach a supplemental narrative to their submission in Grants.gov to successfully complete the application process. Once completed, the applicant must include the supplemental narrative in the attachments section of the SF 424 mandatory form.

The applicant must identify in the project narrative the eligibility category under which the project identified in the application fits. The applicant also would respond to the application requirements proposed below. The FHWA recommends that the application be prepared with standard formatting preferences (e.g. a single-spaced document, using a standard 12-point font, such as Times New Roman, with 1-inch margins).

An application must include any information needed to verify that the project meets the statutory eligibility criteria as well as other information required for FHWA to assess each of the criteria specified in Section III (Selection Criteria). Applicants are required to demonstrate the responsiveness of their proposal to any pertinent selection criteria with the most relevant information that applicants could provide, regardless of whether such information is specifically requested, or identified, in the final notice. Applicants should provide concrete evidence of project milestones, financial capacity and commitment in order to support project readiness.

Consistent with the requirements for an eligible highway safety improvement project under 23 U.S.C. 148(a)(4), applicants must describe clearly how the project would correct or improve a hazardous road location or feature or would address a highway safety problem. The application must include supporting data.

For ease of review, FHWA recommends that the project narrative generally adhere to the following basic outline, and include a table of contents, project abstract, maps, and graphics:

1. Project Abstract: Describe project work that would be completed under the project, the hazardous road location or feature or the highway safety problem that the project would address, and whether the project is a complete project or part of a larger project with prior investment (maximum five sentences). The project abstract must succinctly describe how this specific request for TTPSF would be used to complete the project.

2. Project Description: (Including information on the expected users of the project, a description of the hazardous road location or feature or the highway safety problem that the project would address, and how the project would address these challenges);

3. Applicant information and coordination with other entities (identification of the Indian tribal government applying for TTPSF, description of cooperation with other entities in selecting projects from the TIP as required under 23 U.S.C. 202(e)(2), information regarding any other entities involved in the project);

4. Grant Funds and Sources/Uses of Project Funds (information about the amount of grant funding requested for the project, availability/commitment of funds sources and uses of all project funds, total project costs, percentage of project costs that would be paid for with the TTPSF, and the identity and percentage shares of all parties providing funds for the project (including Federal funds provided under other programs));

5. A description of how the proposal meets the Selection Criteria identified in Section III (Selection Criteria and Policy Considerations) and the statutory eligibility criteria as described in Section II (Eligibility).

D. Contact Information

The applicant must include contact information requested as part of the SF-424. The FHWA will use this information if additional application information is needed or to inform parties of FHWA's decision regarding selection of projects. Contact information should be provided for a direct employee of the lead applicant. Contact information for a contractor, agent, or consultant of the lead applicant is insufficient for FHWA's purposes.

E. Additional Information on Applying Through Grants.gov

Applications for TTPSF must be submitted through Grants.gov. To apply for funding through Grants.gov, applicants must be properly registered. Complete instructions on how to register and apply can be found at www.grants.gov. If interested parties experience difficulties at any point during registration or application process, they should call the Grants.gov Customer Support Hotline at 1-800-518-4726, Monday-Friday from 7:00 a.m. to 9:00 p.m. e.t.

Registering with Grants.gov is a one-time process; however, processing delays may occur and it can take up to several weeks for first-time registrants to receive confirmation and a user password. Accordingly, FHWA highly recommends that potential applicants start the registration process as early as possible to prevent delays that may preclude submitting an application by the deadlines specified. Applications will not be accepted after the relevant due date; delayed registration is not an acceptable reason for extensions. In order to apply for TTPSF under this announcement and to apply for funding through Grants.gov, all applicants are required to complete the following:

1. Acquire a Data Universal Numbering System (DUNS) Number. A DUNS number is required for Grants.gov registration. The Office of Management and Budget requires that all applicants for Federal funds include a DUNS number in their applications for a new award or renewal of an existing award. A DUNS number is a unique nine-digit sequence recognized as the universal standard for identifying and keeping track of entities receiving Federal funds. The identifier is used for tracking purposes and to validate address and point of contact information for Federal assistance applicants, recipients, and sub-recipients. The DUNS number will be used throughout the grant life cycle. Obtaining a DUNS number is a free, one-time activity that can be completed by calling 1-866-705-5711 or by applying online at http://fedgov.dnb.com/webform.

2. Acquire or Renew Registration with the Central Contractor Registration (CCR) Database. All applicants for Federal financial assistance maintain current registrations in the CCR database. An applicant must be registered in the CCR to successfully register in Grants.gov. The CCR database is the repository for standard information about Federal financial assistance applicants, recipients, and sub-recipients. Entities that have previously submitted applications via Grants.gov are already registered with CCR, as it is a requirement for Grants.gov registration. Please note, however, that applicants must update or renew their CCR registration at least once per year to maintain an active status, so it is critical to check registration status well in advance of relevant application deadlines. Information about CCR registration procedures can be accessed at: https://www.sam.gov/portal/public/SAM/.

3. Acquire an Authorized Organization Representative (AOR) and a Grants.gov Username and Password. Applicants will need to complete an AOR profile on Grants.gov and create a username and password. The assigned DUNS Number is required to complete this step. For more information about the registration process, go to: www.grants.gov/applicants/get_registered.jsp.

4. Acquire Authorization for the AOR from the E-Business Point of Contact (E-Biz POC). The E-Biz POC for the tribe must log in to Grants.gov to confirm the applicant as an AOR. Please note that there can be more than one AOR for your tribe.

5. Search for the Funding Opportunity on Grants.gov. Applicants would use the Catalog of Federal Domestic Assistance number for this solicitation is 20.205, titled Highway Planning and Construction, when searching for the TTPSF opportunity on Grants.gov.

6. Submit an Application Addressing All of the Requirements Outlined in this Funding Availability Announcement. Within 24 to 48 hours after submitting an electronic application, applicants should receive an email validation message from Grants.gov. The validation message will specify whether the application has been received and validated or rejected, with an explanation. Applicants are encouraged to submit applications at least 72 hours prior to the due date of the application to allow time to receive the validation message and to correct any problems that may have caused a rejection notification.

Note: When uploading attachments, applicants should use generally accepted formats such as .pdf, .doc, and .xls. While applicants may imbed picture files such as .jpg, .gif, .bmp, in your files, they should not save and submit the attachment in these formats. Additionally, the following formats will not be accepted: .com, .bat, .exe, .vbs, .cfg, .dat, .db, .dbf, .dll, .ini, .log, .ora, .sys, and .zip.

F. Experiencing Unforeseen Grants.gov Technical Issues

If an applicant experiences unforeseen Grants.gov technical issues beyond its control that prevent the submission of an application by the established deadline, such applicant must contact Grants.gov.

To ensure a fair competition for limited TTPSF, the following conditions are not valid reasons to permit late submissions: (1) Failure to complete the registration process before the deadline date; (2) failure to follow Grants.gov instructions on how to register and apply as posted on its Web site; (3) failure to follow all of the instructions in the funding availability notice; and (4) technical issues experienced with the applicant's computer or information technology environment.

VI. Program Funding and Award

Section 1101 of MAP-21 authorized $450,000,000 for the TTP for each of FY 2013 and 2014. Section 1119 of MAP-21 amends 23 U.S.C. 202(e) to provide that not more than 2 percent of such funds made available for the TTP may be allocated for TTPSF. Accordingly, FHWA expects that a maximum of $9,000,000 could be made available in each of FYs 2013 and 2014 for TTPSF. The FHWA anticipates high demand for this limited amount of funding and encourages applications for modest-sized, scalable requests that allow more tribes to receive funding.

VII. Consultation Process

The DOT issued Order 5301.1, “Department of Transportation Programs, Policies, and Procedures Affecting American Indians, Alaska Natives, and Tribes” on November 16, 1999. This Order affirmed the DOT's and its Modal Administrations' unique legal relationship with Indian tribes, established DOT's consultation and coordination process with Indian tribes for any action that may significantly or uniquely affect them, and listed goals for Modal Administrations to meet when carrying out policies, programs, and activities affecting American Indians, Alaska Natives, and tribes. The Department affirms its commitment to these principles, and those set forth in Executive Order 13175 and the President's November 5, 2009, memorandum in establishing the DOT Consultation Plan dated March 4, 2010, and found at: http://www.dot.gov/sites/dot.dev/files/docs/Tribal%20Consultation%20Plan.pdf

In furtherance of these documents pertaining to consultation, FHWA informally consulted with the TPPCC in categorizing the eligible activities and determining funding priorities as described herein. In addition to soliciting comments on this notice, FHWA expects to provide other outreach opportunities with tribes through webinars in advance of publication of a final notice of funding availability.

Authority: Section 1119 of Pub. L. 112-141; 23 U.S.C. 202(e).

Issued on: July 29, 2013.
Victor M. Mendez,
FHWA Administrator.

[FR Doc. 2013-18769 Filed 8-2-13; 8:45 am]

BILLING CODE 4910-22-P